DEPARTMENT OF JUSTICE

Drug Enforcement Administration

[Docket No. DEA-680]

Importer of Controlled Substances Application: Usona Institute

ACTION: Notice of application.

DATES: Registered bulk manufacturers of the affected basic class(es), and applicants therefore, may file written comments on or objections to the issuance of the proposed registration on or before August 7, 2020. Such persons may also file a written request for a hearing on the application on or before August 7, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All request for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on May 21, 2020, Usona Institute, 2780 Woods Hollow Road, Room 2412, Fitchburg, Wisconsin 53711-5370, applied to be registered as an importer of the following basic class(es) of controlled substances:

Controlled substance | Drug code | Schedule
5-Methoxy-N-N-dimethyltryptamine | 7431 | I
Dimethyltryptamine | 7435 | I
Psilocybin | 7437 | I
Psilocyn | 7438 | I

The institute plans to import the listed controlled substances for potential formulation development for substances to be used in institute-sponsored research.

William T. McDermott,
Assistant Administrator.

[FR Doc. 2020-14624 Filed 7-7-20; 8:45 am]

BILLING CODE P